ENVIRONMENTAL PROTECTION AGENCY

40 CFR Part 52

[EPA-R03-OAR-2024-0162; FRL-11869-02-R3]

Air Plan Approval; District of Columbia, Maryland, and Virginia; Update of the Motor Vehicle Emissions Budgets for the Washington-MD-VA 2008 8-Hour Ozone National Ambient Air Quality Standard Maintenance Area

AGENCY: Environmental Protection Agency (EPA).

ACTION: Final rule.

SUMMARY: The Environmental Protection Agency (EPA) is approving state implementation plan (SIP) revisions submitted by the District of Columbia (the District), State of Maryland (MD), and Commonwealth of Virginia (VA). The revisions update the motor vehicle emissions budgets (MVEBs) and the onroad and nonroad (except for marine, airport, and railroad) mobile emissions for volatile organic compounds (VOC) and nitrogen oxides (NOX) for the years 2025 and 2030. EPA is approving the updated MVEBs and updates to the applicable onroad and nonroad mobile emissions for VOC and NOX for the years 2025 and 2030. EPA is also approving the allocation of a portion of the safety margins for VOC and NOX in the ozone maintenance plan to the 2025 and 2030 MVEBs. The MVEBs will be available for transportation conformity purposes, in accordance with the requirements of the Clean Air Act (CAA).

DATES: This final rule is effective on November 4, 2024.

ADDRESSES: The EPA has established a docket for this action under Docket ID Number EPA-R03-OAR-2024-0162. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Gregory Becoat, Planning & Implementation Branch (3AD30), Air & Radiation Division, U.S. Environmental Protection Agency, Region III, 1600 John F Kennedy Boulevard, Philadelphia, Pennsylvania 19103. The telephone number is (215) 814-2053. Mr. Becoat can also be reached via electronic mail at Becoat.Gregory@epa.gov.

SUPPLEMENTARY INFORMATION:

I. Background

On November 14, 2023, September 6, 2023, and October 11, 2023, the District, Maryland, and Virginia, respectively, formally submitted requests to update the 2008 8-Hour Ozone national ambient air quality standard (NAAQS) maintenance plan for the Washington, DC-MD-VA 2008 8-Hour Ozone NAAQS Maintenance Area (hereafter “the Washington Area” or “the Area”). These revisions update the Area's maintenance plan to include revised onroad and nonroad MVEBs for VOCs and NOX that reflect the updated EPA Motor Vehicle Emission Simulator (MOVES3.04) model.

On June 3, 2024 (89 FR 47474), EPA published a notice of proposed rulemaking (NPRM) for the Area. The Area submitted SIP revisions that included an update to the MVEBs for VOCs and NOX, that were initially developed using the MOVES2014a model, for the years 2025 and 2030. In the NPRM, EPA proposed approval of revisions to update the Area's maintenance plan to include revised onroad and nonroad MVEBs for VOCs and NOX that reflect the updated EPA MOVES3.04 model and increased onroad vehicle emission rates.

II. Summary of SIP Revision and EPA Analysis

EPA's analysis of the Area's SIP submittal indicates that maintenance of the 2008 8-Hour Ozone NAAQS will continue to be demonstrated for the Area, after updating the 2025 and 2030 MVEBs, for NOX and VOC, using MOVES3.0.4 and updated planning assumptions. The details of the Area's submittal and the rationale for EPA's action are further explained in the NPRM and will not be restated here. Comments on the June 3, 2024 (89 FR 47474) NPRM were due on or before July 3, 2024. EPA received one comment that was not relevant to this action and will not be addressed here.

The updated 2025 and 2030 MVEBs, for NOX and VOC, will ensure that transportation emissions conform with each state's SIP. Table 1 in this document, provides the newly revised MVEBs for 2025 and 2030 along with the retained 2014 MVEBs from the 2017 plan (using MOVES2014a) in tons per day (tpd). The Area added only portions of the total available safety margins for VOC and NOX when developing the revised MVEBs for 2025 and 2030 for the projected onroad mobile VOC and NOX emissions. The allocation will add 5.58 tpd of VOC and 9.30 tpd of NOX from the safety margins to the 2025 emission inventories, and 4.35 tpd of VOC and 6.85 tpd of NOX from the safety margins to the 2030 emission inventories.

Table 1—Revised Onroad Motor Vehicle Emissions Budgets using MOVES3.0.4
Year | VOC onroad emissions (tpd) | NOX onroad emissions (tpd)
2014 Attainment Year | 61.25 | 136.84
2025 Predicted Emissions without Safety Margin | 27.92 | 46.52
2025 Safety Margin | 5.58 | 9.30
2025 Interim Budget with Safety Margin | 33.50 | 55.82
2030 Predicted Emissions without Safety Margin | 21.75 | 34.26
2030 Safety Margin | 4.35 | 6.85
2030 Final Budget with Safety Margin | 26.10 | 41.11

III. Final Action

EPA has evaluated the Area's submittal and has determined that the updated MVEBs and the allocation of the safety margins to the 2025 and 2030 budgets for the Area meet the requirements of the transportation conformity regulations at 40 CFR part 93 and are approvable. Therefore, EPA is approving the Washington Area's SIP revision updating the MVEBs and the onroad and nonroad (except for marine, airport, and railroad) mobile emissions for VOC and NOX for the years 2025 and 2030. Additionally, EPA is approving the allocation of a portion of the safety margins for VOC and NOX in the ozone maintenance plan to the 2025 and 2030 budgets.

IV. General Information Pertaining to SIP Submittals From the Commonwealth of Virginia

In 1995, Virginia adopted legislation that provides, subject to certain conditions, for an environmental assessment (audit) “privilege” for voluntary compliance evaluations performed by a regulated entity. The legislation further addresses the relative burden of proof for parties either asserting the privilege or seeking disclosure of documents for which the privilege is claimed. Virginia's legislation also provides, subject to certain conditions, for a penalty waiver for violations of environmental laws when a regulated entity discovers such violations pursuant to a voluntary compliance evaluation and voluntarily discloses such violations to the Commonwealth and takes prompt and appropriate measures to remedy the violations. Virginia's Voluntary Environmental Assessment Privilege Law, Va. Code sec. 10.1198, provides a privilege that protects from disclosure documents and information about the content of those documents that are the product of a voluntary environmental assessment. The Privilege Law does not extend to documents or information that: (1) are generated or developed before the commencement of a voluntary environmental assessment; (2) are prepared independently of the assessment process; (3) demonstrate a clear, imminent, and substantial danger to the public health or environment; or (4) are required by law.

On January 12, 1998, the Commonwealth of Virginia Office of the Attorney General provided a legal opinion that states that the Privilege Law, Va. Code sec. 10.1-1198, precludes granting a privilege to documents and information “required by law,” including documents and information “required by Federal law to maintain program delegation, authorization or approval,” since Virginia must “enforce Federally authorized environmental programs in a manner that is no less stringent than their Federal counterparts. . . .” The opinion concludes that “[r]egarding § 10.1-1198, therefore, documents or other information needed for civil or criminal enforcement under one of these programs could not be privileged because such documents and information are essential to pursuing enforcement in a manner required by Federal law to maintain program delegation, authorization or approval.”

Virginia's Immunity Law, Va. Code sec. 10.1-1199, provides that “[t]o the extent consistent with requirements imposed by Federal law,” any person making a voluntary disclosure of information to a state agency regarding a violation of an environmental statute, regulation, permit, or administrative order is granted immunity from administrative or civil penalty. The Attorney General's January 12, 1998 opinion states that the quoted language renders this statute inapplicable to enforcement of any Federally authorized programs, since “no immunity could be afforded from administrative, civil, or criminal penalties because granting such immunity would not be consistent with Federal law, which is one of the criteria for immunity.”

Therefore, the EPA has determined that Virginia's Privilege and Immunity statutes will not preclude the Commonwealth from enforcing its program consistent with the Federal requirements. In any event, because the EPA has also determined that a state audit privilege and immunity law can affect only state enforcement and cannot have any impact on Federal enforcement authorities, the EPA may at any time invoke its authority under the CAA, including, for example, section 113, 167, 205, 211 or 213, to enforce the requirements or prohibitions of the state plan, independently of any state enforcement effort. In addition, citizen enforcement under section 304 of the CAA is likewise unaffected by this, or any, state audit privilege or immunity law.

V. Statutory and Executive Order Reviews

A. General Requirements

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act;

This action does not have tribal implications as specified by Executive Order 13175 (65 FR 67249, November 9, 2000), because this action is not approved to apply in Indian country located in the Commonwealth of Virginia, State of Maryland, or District of Columbia, and EPA notes that it will not impose substantial direct costs on tribal governments or preempt tribal law.

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The District of Columbia, State of Maryland, and Commonwealth of Virginia did not evaluate environmental justice considerations as part of the SIP submittals; the CAA and applicable implementing regulations neither prohibit nor require such an evaluation. The EPA did not perform an EJ analysis and did not consider EJ in this action. Consideration of EJ is not required as part of this action, and there is no information in the record inconsistent with the stated goal of E.O. 12898 of achieving environmental justice for people of color, low-income populations, and Indigenous peoples.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 3, 2024. Filing a petition for reconsideration by the Administrator of this final rule does not affect the finality of this action for the purposes of judicial review nor does it extend the time within which a petition for judicial review may be filed, and shall not postpone the effectiveness of such rule or action. This action, approving the West Virginia SIP revision updating its incorporation by reference of EPA's NAAQS and associated ambient air monitoring reference methods and equivalent methods, may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Adam Ortiz,
Regional Administrator, Region III.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart J—District of Columbia

2. In § 52.470, the table in paragraph (e) is amended by revising the entry for “Maintenance plan for the District of Columbia portion of the Washington, DC-MD-VA Nonattainment Area for the 2008 8-hour ozone National Ambient Air Quality Standard” to read as follows:

§ 52.470 Identification of plan.

* * * * *

(e) * * *

Name of non-regulatory SIP revision | Applicable geographic area | State submittal date | EPA approval date | Additional explanation
* * * * * * *
Maintenance plan for the District of Columbia portion of the Washington, DC-MD-VA Nonattainment Area for the 2008 8-hour ozone National Ambient Air Quality Standard | District of Columbia | 11/14/23 | 10/4/2024, [INSERT FEDERAL REGISTER CITATION] | Added § 52.476(k).
* * * * * * *

3. In § 52.476:

a. Remove the heading from paragraph (g); and

b. Add paragraph (k).

The addition reads as follows:

§ 52.476 Control strategy: ozone.

* * * * *

(k) EPA approves updates to the 2008 8-Hour Ozone national ambient air quality standard (NAAQS) maintenance plan for the District of Columbia portion of the Washington, DC-MD-VA 2008 8-Hour Ozone NAAQS Maintenance Area. The updates include revised motor vehicle emissions budgets (MVEBs) and updates to the applicable onroad and nonroad mobile emissions for VOC and NOX for the years 2025 and 2030. EPA also approves the allocation of a portion of the safety margins for VOC and NOX in the ozone maintenance plan to the 2025 and 2030 MVEBs. The revised MVEBs for VOC and NOX applies to all future transportation conformity determinations and analyses for the entire Washington, DC-MD-VA Maintenance Area for the 2008 8-Hour Ozone NAAQS.

Table 5 to Paragraph (k)—Revised Onroad Motor Vehicle Emissions Budgets Using MOVES 3.0.4
Year | VOC onroad emissions (tpd) | NOX onroad emissions (tpd)
2014 Attainment Year | 61.25 | 136.84
2025 Predicted Emissions without Safety Margin | 27.92 | 46.52
2025 Safety Margin | 5.58 | 9.30
2025 Interim Budget with Safety Margin | 33.50 | 55.82
2030 Predicted Emissions without Safety Margin | 21.75 | 34.26
2030 Safety Margin | 4.35 | 6.85
2030 Final Budget with Safety Margin | 26.10 | 41.11

Subpart V—Maryland

4. In § 52.1070, the table in paragraph (e) is amended by revising the entry for “Maintenance plan for the Maryland portion of the Washington, DC-MD-VA Nonattainment Area for the 2008 8-hour ozone National Ambient Air Quality Standard” to read as follows:

§ 52.1070 Identification of plan.

* * * * *

(e) * * *

Name of non-regulatory SIP revision | Applicable geographic area | State submittal date | EPA approval date | Additional explanation
* * * * * * *
Maintenance plan for the Maryland portion of the Washington, DC-MD-VA Nonattainment Area for the 2008 8-hour ozone National Ambient Air Quality Standard | Calvert, Charles, Frederick, Montgomery, and Prince George's Counties | 09/06/23 | [10/4/2024, INSERT FEDERAL REGISTER CITATION] | § 52.1076(hh).
* * * * * * *

5. In § 52.1076:

a. Remove the headings from paragraphs (w), (x), and (gg); and

b. Add paragraph (hh).

The addition reads as follows:

§ 52.1076 Control strategy plans for attainment and rate-of-progress: Ozone.

* * * * *

(hh) EPA approves updates to the 2008 8-Hour Ozone national ambient air quality standard (NAAQS) maintenance plan for the Maryland portion of the Washington, DC-MD-VA 2008 8-Hour Ozone NAAQS Maintenance Area. The updates include revised motor vehicle emissions budgets (MVEBs) and updates to the applicable onroad and nonroad mobile emissions for VOC and NOX for the years 2025 and 2030. EPA also approves the allocation of a portion of the safety margins for VOC and NOX in the ozone maintenance plan to the 2025 and 2030 MVEBs. The revised MVEBs for VOC and NOX applies to all future transportation conformity determinations and analyses for the entire Washington, DC-MD-VA Maintenance Area for the 2008 8-Hour Ozone NAAQS.

Table 11 to Paragraph (hh)—Revised Onroad Motor Vehicle Emissions Budgets Using MOVES 3.0.4
Year | VOC onroad emissions (tpd) | NOX onroad emissions (tpd)
2014 Attainment Year | 61.25 | 136.84
2025 Predicted Emissions without Safety Margin | 27.92 | 46.52
2025 Safety Margin | 5.58 | 9.30
2025 Interim Budget with Safety Margin | 33.50 | 55.82
2030 Predicted Emissions without Safety Margin | 21.75 | 34.26
2030 Safety Margin | 4.35 | 6.85
2030 Final Budget with Safety Margin | 26.10 | 41.11

Subpart VV—Virginia

6. In § 52.2420, the table in paragraph (e)(1) is amended by revising the entry “Maintenance plan for the Virginia portion of the Washington, DC-MD-VA Nonattainment Area for the 2008 8-hour ozone National Ambient Air Quality Standard” to read as follows:

§ 52.2420 Identification of plan.

* * * * *

(e) * * *

(1) * * *

Name of non-regulatory SIP revision | Applicable geographic area | State submittal date | EPA approval date | Additional explanation
* * * * * * *
Maintenance plan for the Virginia portion of the Washington, DC-MD-VA Nonattainment Area for the 2008 8-hour ozone National Ambient Air Quality Standard | Arlington, Fairfax, Loudoun, and Prince William Counties and the Cities of Alexandria, Fairfax, Falls Church, Manassas, and Manassas Park | 10/11/23 | 10/4/2024, [INSERT FEDERAL REGISTER CITATION] | Added § 52.2428(n).
* * * * * * *

* * * * *

7. In § 52.2428:

a. Remove the heading from paragraph (h); and

b. Add paragraph (n).

The addition reads as follows:

§ 52.2428 Control Strategy: Carbon monoxide and ozone.

* * * * *

(n) EPA approves updates to the 2008 8-Hour Ozone national ambient air quality standard (NAAQS) maintenance plan for the Virginia portion of the Washington, DC-MD-VA 2008 8-Hour Ozone NAAQS Maintenance Area. The updates include revised motor vehicle emissions budgets (MVEBs) and updates to the applicable onroad and nonroad mobile emissions for VOC and NOX for the years 2025 and 2030. EPA also approves the allocation of a portion of the safety margins for VOC and NOX in the ozone maintenance plan to the 2025 and 2030 MVEBs. The revised MVEBs for VOC and NOX applies to all future transportation conformity determinations and analyses for the entire Washington, DC-MD-VA Maintenance Area for the 2008 8-Hour Ozone NAAQS.

Table 5 to Paragraph (n)—Revised Onroad Motor Vehicle Emissions Budgets Using MOVES 3.0.4
Year | VOC onroad emissions (tpd) | NOX onroad emissions (tpd)
2014 Attainment Year | 61.25 | 136.84
2025 Predicted Emissions without Safety Margin | 27.92 | 46.52
2025 Safety Margin | 5.58 | 9.30
2025 Interim Budget with Safety Margin | 33.50 | 55.82
2030 Predicted Emissions without Safety Margin | 21.75 | 34.26
2030 Safety Margin | 4.35 | 6.85
2030 Final Budget with Safety Margin | 26.10 | 41.11

[FR Doc. 2024-22535 Filed 10-3-24; 8:45 am]

BILLING CODE 6560-50-P